DEPARTMENT OF HEALTH AND HUMAN SERVICES

42 CFR Part 100

RIN 0906-AB01

National Vaccine Injury Compensation Program: Revisions to the Vaccine Injury Table; Delay of Effective Date

AGENCY: Health Resources and Services Administration (HRSA), HHS.

ACTION: Final rule; delay of effective date.

SUMMARY: On January 19, 2017, the Department of Health and Human Services published in the Federal Register a final rule to amend the regulations governing the National Vaccine Injury Compensation Program (VICP or program) by revising the Vaccine Injury Table (Table). That final rule is scheduled to take effect on February 21, 2017. This document announces that the effective date is delayed until March 21, 2017.

DATES: This regulation is effective February 17, 2017. The effective date of the final rule amending 42 CFR part 100 published at 82 FR 6294, January 19, 2017, is delayed until March 21, 2017.

FOR FURTHER INFORMATION CONTACT: Dr. Narayan Nair, Director, Division of Injury Compensation Programs, Healthcare Systems Bureau, HRSA, 5600 Fishers Lane, Room 8N146B, Rockville, MD 20857, or by telephone (855) 266-2427. This is a toll-free number.

SUPPLEMENTARY INFORMATION: The January 20, 2017 memorandum from the Assistant to the President and Chief of Staff, titled “Regulatory Freeze Pending Review,” published in the Federal Register on January 24, 2017 (82 FR 8346) instructed federal agencies to delay the effective date of rules published in the Federal Register, but which have not yet taken effect, for a period of 60 days from the date of the memorandum. In accordance with that memorandum, this action temporarily delays for 60 days from the date of the memorandum the effective date of the final rule titled “National Vaccine Injury Compensation Program: Revisions to the Vaccine Injury Table” published in the Federal Register on January 19, 2017 (82 FR 6294). That final rule amends the regulations governing VICP by providing revisions to the Vaccine Injury Table based primarily on the 2012 Institute of Medicine (IOM) report, “Adverse Effects of Vaccines: Evidence and Causality,” the work of nine HHS workgroups who reviewed the IOM findings, and consideration of the Advisory Commission on Childhood Vaccines' recommendations. The effective date of that rule, which would have been February 21, 2017, is now March 21, 2017.

Dated: February 14, 2017.
James Macrae,
Acting Administrator, Health Resources and Services Administration.
Approved: February 15, 2017.
Thomas E. Price,
Secretary, Department of Health and Human Services.

[FR Doc. 2017-03416 Filed 2-17-17; 11:15 am]

BILLING CODE 4160-15-P